DEPARTMENT OF TRANSPORTATION

Federal Aviation Administration

14 CFR Part 39

[Docket No. FAA-2011-0386; Directorate Identifier 2010-NM-115-AD; Amendment 39-16679; AD 2011-09-17]

RIN 2120-AA64

Airworthiness Directives; Airbus Model A340-200, -300, -500, and -600 Series Airplanes

AGENCY: Federal Aviation Administration (FAA), Department of Transportation (DOT).

ACTION: Final rule; request for comments.

SUMMARY: We are adopting a new airworthiness directive (AD) for the products listed above that supersedes an existing AD. This AD results from mandatory continuing airworthiness information (MCAI) originated by an aviation authority of another country to identify and correct an unsafe condition on an aviation product. The MCAI describes the unsafe condition as:

* * * * *

The revision 01 of Airbus A340 ALS [Airworthiness Limitations section] Part 3 introduces more restrictive maintenance requirements and/or airworthiness limitations. Failure to comply with this revision constitutes an unsafe condition.

* * * * *

The unsafe condition is a safety-significant latent failure that would, in combination with one or more other specific failures or events, result in a hazardous or catastrophic failure condition. This AD requires actions that are intended to address the unsafe condition described in the MCAI.

DATES: This AD becomes effective May 17, 2011.

The Director of the Federal Register approved the incorporation by reference of a certain publication listed in the AD as of May 17, 2011.

On January 27, 2010 (75 FR 1538, January 12, 2010), the Director of the Federal Register approved the incorporation by reference of a certain other publication listed in this AD.

We must receive comments on this AD by June 16, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone: 800-647-5527) is in the ADDRESSES section. Comments will be available in the AD docket shortly after receipt.

FOR FURTHER INFORMATION CONTACT: Vladimir Ulyanov, International Branch, ANM-116, Transport Airplane Directorate, FAA, 1601 Lind Avenue, SW., Renton, Washington 98057-3356; telephone: 425-227-1138; fax: 425-227-1149.

SUPPLEMENTARY INFORMATION:

Discussion

On December 23, 2009, we issued AD 2010-01-07, Amendment 39-16165 (75 FR 1538, January 12, 2010). That AD required actions intended to address an unsafe condition on the products listed above.

Since we issued AD 2010-01-07, we have determined that more restrictive limitations are necessary. The European Aviation Safety Agency (EASA), which is the Technical Agent for the Member States of the European Community, has issued EASA Airworthiness Directive 2010-0047, dated March 19, 2010 (referred to after this as “the MCAI”), to correct an unsafe condition for the specified products. The MCAI states:

The airworthiness limitations are currently distributed in the Airbus A340 Airworthiness Limitations Section (ALS).

The airworthiness limitations applicable to the Certification Maintenance Requirements (CMR) are given in Airbus A340 ALS Part 3, which is approved by the European Aviation Safety Agency (EASA).

The revision 01 of Airbus A340 ALS Part 3 introduces more restrictive maintenance requirements and/or airworthiness limitations. Failure to comply with this revision constitutes an unsafe condition.

This new AD retains the requirements of EASA AD 2009-0098 [which corresponds to FAA AD 2010-01-07], which is superseded, and requires the implementation of the new or more restrictive maintenance requirements and/or airworthiness limitations as specified in Airbus A340 ALS Part 3 revision 01.

The unsafe condition is a safety-significant latent failure that would, in combination with one or more other specific failures or events, result in a hazardous or catastrophic failure condition. This AD requires revising the maintenance program by incorporating new and revised CMRs. You may obtain further information by examining the MCAI in the AD docket.

Relevant Service Information

Airbus has issued A340 ALS, Part 3—Certification Maintenance Requirements (CMR), Revision 01, including Appendices 1 and 2, dated December 15, 2009. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2011-0386; Directorate Identifier 2010-NM-115-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a ”significant regulatory action” under Executive Order 12866;

2. Is not a ”significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16165 (75 FR 1538, January 12, 2010) and adding the following new AD:

2011-09-17 Airbus: Amendment 39-16679. Docket No. FAA-2011-0386; Directorate Identifier 2010-NM-115-AD.

Effective Date

(a) This airworthiness directive (AD) becomes effective May 17, 2011.

Affected ADs

(b) This AD supersedes AD 2010-01-07, Amendment 39-16165.

Applicability

(c) This AD applies to Airbus Model A340-211, -212, -213, -311, -312, -313, -541, and -642 airplanes; certificated in any category; all serial numbers.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j)(1) of this AD. The request should include a description of changes to the required inspections that will ensure the continued damage tolerance of the affected structure. The FAA has provided guidance for this determination in Advisory Circular (AC) 25-1529-1.

Subject

(d) Air Transport Association (ATA) of America Code 05: Periodic Inspections.

Reason

(e) The mandatory continued airworthiness information (MCAI) states:

* * * * *

The revision 01 of Airbus A340 ALS [Airworthiness Limitations section] Part 3 introduces more restrictive maintenance requirements and/or airworthiness limitations. Failure to comply with this revision constitutes an unsafe condition.

* * * * *

The unsafe condition is a safety-significant latent failure that would, in combination with one or more other specific failures or events, result in a hazardous or catastrophic failure condition.

Compliance

(f) You are responsible for having the actions required by this AD performed within the compliance times specified, unless the actions have already been done.

Restatement of Requirements of AD 2010-01-07, With No Changes

Revise the ALS of the Instructions for Continued Airworthiness (ICA)

(g) Unless already done, within 3 months after January 27, 2010 (the effective date of AD 2010-01-07), revise the ALS of the Instructions for Continued Airworthiness by incorporating Airbus A340 ALS, Part 3—Certification Maintenance Requirements (CMR), Revision 00, dated July 31, 2008. Accomplish the actions specified in the Airbus A340 ALS, Part 3—Certification Maintenance Requirements (CMR), Revision 00, dated July 31, 2008, at the times specified in the Airbus A340 ALS, Part 3—Certification Maintenance Requirements (CMR), Revision 00, dated July 31, 2008; and in accordance with the Airbus A340 ALS, Part 3—Certification Maintenance Requirements (CMR), Revision 00, dated July 31, 2008; except as provided by paragraphs (g)(1) and (g)(2) of this AD, and except as required by paragraph (h) of this AD.

(1) Count the associated interval for any new task from January 27, 2010, except that Airbus A340 CMR Task 212100-00001-1-C must be performed at the later of the times specified in paragraphs (g)(1)(i) and (g)(1)(ii) of this AD.

(i) Before the accumulation of 2,600 total flight hours since the date of issuance of the original French airworthiness certificate or the date of issuance of the original French or EASA export certificate of airworthiness.

(ii) Within 800 flight hours or 3 months, whichever comes first, after the approval date of the Airbus A340 ALS, Part 3—Certification Maintenance Requirements (CMR), Revision 00, dated July 31, 2008.

(2) Count the associated interval for any revised task from the previous performance of the task.

(3) Doing the revision required by paragraph (g) of this AD terminates the requirements of paragraph (f) of AD 2007-05-08, Amendment 39-14969, for that airplane only.

New Requirements of This AD

Revise the Maintenance Program

(h) Within 3 months after the effective date of this AD, revise the maintenance program by incorporating Airbus A340 ALS, Part 3—Certification Maintenance Requirements (CMR), Revision 01, dated December 15, 2009. The initial compliance times for the actions specified in Airbus A340 ALS, Part 3—Certification Maintenance Requirements (CMR), Revision 01, dated December 15, 2009, are at the later of the times specified in the Airbus A340 ALS, Part 3—Certification Maintenance Requirements (CMR), Revision 01, dated December 15, 2009, or within 3 months after the effective date of this AD. Doing the revision required by this paragraph terminates the requirements of paragraph (g) of this AD for that airplane only.

No Alternative Actions, Intervals, and/or Critical Design Configuration Control Limitations (CDCCLs)

(i) After accomplishing the revision required by paragraph (h) of this AD, no alternative actions (e.g., inspections), intervals, and/or CDCCLs may be used, other than those specified in Airbus A340 ALS, Part 3—Certification Maintenance Requirements (CMR), Revision 01, dated December 15, 2009, unless the actions, intervals, and/or CDCCLs are approved as an alternative method of compliance (AMOC) in accordance with the procedures specified in paragraph (j) of this AD.

FAA AD Differences

Note 2: This AD differs from the MCAI and/or service information as follows: Although European Aviation Safety Agency (EASA) Airworthiness Directive 2010-0047, dated March 19, 2010, specifies both revising the maintenance program to include airworthiness limitations, and doing certain repetitive actions (e.g., inspections) and/or maintaining CDCCLs, this AD only requires the revision. Requiring a revision of the maintenance program, rather than requiring individual repetitive actions and/or maintaining CDCCLs, requires operators to record AD compliance only at the time the revision is made. Repetitive actions and/or maintaining CDCCLs specified in the airworthiness limitations must be complied with in accordance with 14 CFR 91.403(c).

Other FAA AD Provisions

(j) The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, International Branch, ANM-116, Transport Airplane Directorate, FAA, 1601 Lind Avenue, SW., Renton, Washington 98057-3356; telephone: 425-227-1138; fax: 425-227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI EASA Airworthiness Directive 2010-0047, dated March 19, 2010; Airbus A340 ALS, Part 3—Certification Maintenance Requirements (CMR), Revision 00, dated July 31, 2008; and Airbus A340 ALS, Part 3—Certification Maintenance Requirements (CMR), Revision 01, dated December 15, 2009; for related information.

Material Incorporated by Reference

(l) You must use Airbus A340 ALS, Part 3—Certification Maintenance Requirements (CMR), Revision 00, including Appendices 1 and 2, dated July 31, 2008; and Airbus A340 ALS, Part 3—CMR, Revision 01, including Appendices 1 and 2, dated December 15, 2009; as applicable; to do the actions required by this AD, unless the AD specifies otherwise. (The title page of Airbus A340 ALS, Part 3—Certification Maintenance Requirements (CMR), Revision 01, including Appendices 1 and 2, dated December 15, 2009, does not specify a revision date; the revision date is specified on all other pages of this document. Only the title page and Record of Revisions specify the revision level of this document.)

(1) The Director of the Federal Register approved the incorporation by reference of Airbus A340 ALS, Part 3—Certification Maintenance Requirements (CMR), Revision 01, including Appendices 1 and 2, dated December 15, 2009, under 5 U.S.C. 552(a) and 1 CFR part 51.

(2) The Director of the Federal Register previously approved the incorporation by reference of Airbus A340 ALS, Part 3—Certification Maintenance Requirements (CMR), Revision 00, including Appendices 1 and 2, dated July 31, 2008, on January 27, 2010 (75 FR 1538, January 12, 2010).

(3) For service information identified in this AD, contact Airbus SAS—Airworthiness Office—EAL, 1 Rond Point Maurice Bellonte, 31707 Blagnac Cedex, France; telephone: +33 5 61 93 36 96; fax: +33 5 61 93 45 80; e-mail: airworthiness.A330-A340@airbus.com; Internet: http://www.airbus.com.

(4) You may review copies of the service information at the FAA, Transport Airplane Directorate, 1601 Lind Avenue, SW., Renton, Washington. For information on the availability of this material at the FAA, call 425-227-1221.

(5) You may also review copies of the service information that is incorporated by reference at the National Archives and Records Administration (NARA). For information on the availability of this material at NARA, call 202-741-6030, or go to: http://www.archives.gov/federal_register/code_of_federal_regulations/ibr_locations.html.

Issued in Renton, Washington, on April 20, 2011.
Kalene C. Yanamura,
Acting Manager, Transport Airplane Directorate, Aircraft Certification Service.

[FR Doc. 2011-10137 Filed 4-29-11; 8:45 am]

BILLING CODE 4910-13-P